DEPARTMENT OF ENERGY

Funding Opportunity for Consent-Based Siting Program; Extension of Application Deadline

AGENCY: Office of Spent Fuel and Waste Disposition, Office of Nuclear Energy, Department of Energy.

ACTION: Extension of application deadline.

SUMMARY: On September 20, 2022, the Department of Energy (DOE or the Department) issued a $16 million funding opportunity announcement (FOA) to support community engagement with DOE's consent-based siting activities and foster the development of innovative community ideas and feedback related to the potential role that one or more federal consolidated interim storage facilities for commercial spent nuclear fuel may have in the community. The Department then published a notice of funding opportunity in the Federal Register on October 27, 2022, inviting applications. This notice extends the deadline date for transmittal of questions until January 16, 2023 and extends the deadline for submittal of FOA applications until January 31, 2023.

DATES: The application deadline for the FOA that published in the Federal Register on October 27, 2022 (87 FR 65048) is extended. The deadline for Transmittal of questions was January 16, 2023. The deadline for submittal of FOA applications is January 31, 2023.

ADDRESSES: All applications must be emailed to the DOE Contracts Specialist at consent-based-siting-project@id.doe.gov. Applicants must obtain a Unique Entity ID (UEI) number. Applicants must first be registered with the (System for Award Management) SAM website: https://www.sam.gov. All SAM registrants will be assigned a UEI and can view the number on the SAM website. Applications shall be prepared in accordance with the detailed instructions in the FOA. To learn more about the FOA, including application requirements, please go to https://www.grants.gov and search for “DE-FOA-0002575.”

FOR FURTHER INFORMATION CONTACT: Dr. Tran Le, U.S. Department of Energy, Office of Nuclear Energy, NE-82, 1000 Independence Avenue SW, Washington, DC 20585-0121. Telephone: (301) 903-3301. Email: consentbasedsiting@hq.doe.gov. Questions about the FOA must be submitted by January 16, 2023, to the DOE Contracts Specialist at consent-based-siting-project@id.doe.gov. For non-FOA related questions about DOE's consent-based siting activities, please send your inquiry via email to consentbasedsiting@hq.doe.gov or by phone at (301) 903-3301.

Signing Authority

This document of the Department of Energy was signed on January 12, 2023, by Dr. Kathryn Huff, Assistant Secretary for the Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 19, 2023.
Treena V. Garrett,
Federal Register Liaison Officer, U.S. Department of Energy.

[FR Doc. 2023-01283 Filed 1-23-23; 8:45 am]

BILLING CODE 6450-01-P